DEPARTMENT OF JUSTICE

[OMB Number 1140-0013]

Agency Information Collection Activities; Proposed eCollection eComments Requested; Extension of a Previously Approved Collection; Application for Tax-Exempt Transfer of Firearm and Registration to Special Occupational Taxpayer—ATF Form 3 (5320.3)

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until September 5, 2023.

FOR FURTHER INFORMATION CONTACT: If you have additional comments especially on the estimated public burden or associated response time, suggestions, or need a copy of the proposed information collection instrument with instructions or additional information, contact: Melissa Mason, NFA, either by mail at 244 Needy Road, Martinsburg, West Virginia 25405, by email: NFAOMBCOMMENTS@ATF.GOV, or telephone at 304-616-4500.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: ATF Form 3 (5320.3) is filed by Federal firearms licensees who have paid the special (occupational) tax to import, manufacture or deal in NFA firearms to transfer an NFA firearm to a similarly qualified licensee.

Overview of This Information Collection

1. Type of Information Collection: Extension of a previously approved collection.

2. The Title of the Form/Collection: Application for Tax-Exempt Transfer of Firearm and Registration to Special Occupational Taxpayer.

3. The agency form number, if any, and the applicable component of the Department sponsoring the collection:

Form number: ATF Form 3 (5320.3).

Component: Bureau of Alcohol, Tobacco, Firearms and Explosives, U.S. Department of Justice.

4. Affected public who will be asked or required to respond, as well as the obligation to respond: Affected Public: Private Sector—business or other for-profit, Federal Government. The obligation to respond is mandatory under the provisions of 26 U.S.C. 5812.

5. An estimate of the total number of respondents and the amount of time estimated for an average respondent to respond: An estimated 255,888 respondents will utilize the form annually, and it will take each respondent approximately 30 minutes to complete their responses.

6. An estimate of the total annual burden (in hours) associated with the collection: The estimated annual public burden associated with this collection is 127,944, which is equal to 255,888 (total respondents) * 1 (# of response per respondent) * .5 (30 minutes).

7. An estimate of the total annual cost burden associated with the collection, if applicable: $3,020 (If used full universe of 255,888 × $.63 = $161,209).

Total Burden Hours
Activity | Number of respondents | Frequency | Total annual responses | Time per response (min.) | Total annual burden (hours)
ATF Form 3 (5320.3) | 255,888 | 1/annually | 255,888 | 30 | 127,944

If additional information is required contact: John Carlson, Department Clearance Officer, United States Department of Justice, Justice Management Division, Policy and Planning Staff, Two Constitution Square, 145 N Street NE, 4W-218, Washington, DC.

Dated: June 29, 2023.
John Carlson,
Department Clearance Officer for PRA, U.S. Department of Justice.

[FR Doc. 2023-14272 Filed 7-5-23; 8:45 am]

BILLING CODE 4410-FY-P